DEPARTMENT OF DEFENSE

Office of the Secretary; Submission for OMB Review; Comment Request

ACTION: Notice.

The Department of Defense has submitted to OMB for clearance, the following proposal for collection of information under the provisions of the Paperwork Reduction Act (44 U.S.C. Chapter 35).

DATES: Consideration will be given to all comments received by August 24, 2005.

Title, Form, and OMB Number: Procurement Technical Assistance Center Cooperative Agreement Performance Report; DLA Form 1806; OMB Number 0704-0320.

Type of Request: Extension.

Number of Respondents: 94.

Responses per Respondent: 2.

Annual Responses: 188.

Average Burden per Response: 7 hours.

Annual Burden Hours: 1,316.

Needs and Uses: The Defense Logistics Agency uses the report as the principal instrument for measuring the performance of Cooperative Agreement awards made under 10 U.S.C. Chapter 142.

Affected Public: Business or other for-profit; not-for-profit institutions; State, local or tribal government.

Frequency: Semi-annually.

Respondent's Obligation: Required to obtain or retain benefits.

OMB Desk Officer: Mr. Lewis Oleinick. Written comments and recommendations on the proposed information collection should be sent to Mr. Oleinick at the Office of Management and Budget, Desk Officer for DoD, Room 10236, New Executive Office Building, Washington, DC 20503.

DOD Clearance Officer: Ms. Patricia Toppings. Written requests for copies of the information collection proposal should be sent to Ms. Toppings, WHS/ESD. Information Management Division, 1225 South Clark Street, Suite 504, Arlington, VA 22202-4326.

Dated: July 18, 2005.
Patricia L. Toppings,
Alternate OSD Federal Register Liaison Officer, Department of Defense.

[FR Doc. 05-14585 Filed 7-22-05; 8:45 am]

BILLING CODE 5001-06-M